DEPARTMENT OF TRANSPORTATION

Federal Aviation Administration

14 CFR Part 71

[Docket No. FAA-2014-0726; Airspace Docket No. 14-ASO-9]

Amendment of Class D and E Airspace, and Revocation of Class E Airspace; Troy, AL

AGENCY: Federal Aviation Administration (FAA), DOT.

ACTION: Final rule.

SUMMARY: This action amends Class D and E airspace, and removes Class E airspace designated as an extension at Troy Municipal Airport at N. Kenneth Campbell Field (formerly Troy Municipal Airport), Troy, AL. The Troy VHF Omnidirectional Radio Range (VOR) has been decommissioned, therefore Class E extension airspace is no longer needed, and new Standard Instrument Approach Procedures have been developed, requiring adjustments in Class D airspace and Class E airspace extending upward from 700 feet above the surface at the airport. This action enhances the safety and airspace management of Instrument Flight Rules (IFR) operations at the airport. This action also updates the geographic coordinates of the airport and recognizes the name change of the airport.

DATES: Effective 0901 UTC, November 10, 2016. The Director of the Federal Register approves this incorporation by reference action under title 1, Code of Federal Regulations, part 51, subject to the annual revision of FAA Order 7400.11 and publication of conforming amendments.

ADDRESSES: FAA Order 7400.11A, Airspace Designations and Reporting Points, and subsequent amendments can be viewed on line at http://www.faa.gov/air_traffic/publications/. For further information, you can contact the Airspace Policy Group, Federal Aviation Administration, 800 Independence Avenue SW., Washington, DC 20591; telephone: 1-800-647-8927, or 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: John Fornito, Operations Support Group, Eastern Service Center, Federal Aviation Administration, P.O. Box 20636, Atlanta, Georgia 30320; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it amends Class D and Class E airspace at Troy Municipal Airport at N. Kenneth Campbell Field, Troy, AL.

History

On June 21, 2016, the FAA published in the Federal Register a notice of proposed rulemaking (NPRM) to amend Class D and Class E airspace extending upward from 700 feet above the surface at Troy Municipal Airport at N. Kenneth Campbell Field, formerly Troy Municipal Airport, Troy, AL, (81 FR 40213) Docket No. FAA-2014-0726, as new Standard Instrument Approach Procedures have been developed requiring airspace redesign. Additionally, Class E airspace designated as an extension to Class D surface area would be removed due to the decommissioning of the Troy VOR and cancellation of the VOR approaches. The geographic coordinates of the airport would be amended to coincide with the FAA's aeronautical database. Interested parties were invited to participate in this rulemaking effort by submitting written comments on the proposal to the FAA. No comments were received.

Class D and Class E airspace designations are published in paragraphs 5000, 6004 and 6005, respectively, of FAA Order 7400.11A dated August 3, 2016, and effective September 15, 2016, which is incorporated by reference in 14 CFR 71.1. The Class D and Class E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 amends Class E airspace extending upward from 700 feet above the surface within a 7.6-mile radius of Troy Municipal Airport at N. Kenneth Campbell Field and within 2-miles each side of a 070° bearing from the airport to 11.5-miles northeast of the airport, and within 2-miles each side of a 253° bearing from the airport to 11.3-miles southwest of the airport. Additionally, Class E airspace designated as an extension to Class D surface area is removed due to the decommissioning of the Troy VOR and cancellation of the VOR approaches. The geographic coordinates of the airport are amended to coincide with the FAAs aeronautical database. Also, this action recognizes the name change of Troy Municipal Airport at N. Kenneth Campbell Field (formerly Troy Municipal Airport).

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120, E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 5000 Class D Airspace.

* * * * *

ASO AL D Troy, AL [Amended]

Troy Municipal Airport at N. Kenneth Campbell Field, AL

(Lat. 31°51′36″ N., long. 86°00′50″ W.)

That airspace extending upward from the surface to and including 2,900 feet MSL within a 5-mile radius of Troy Municipal Airport at N. Kenneth Campbell Field. This Class D airspace area is effective during specific dates and times established in advance by a Notice to Airmen. The effective date and time will thereafter be continuously published in the Airport/Facility Directory.

Paragraph 6004 Class E Airspace Designated as an Extension to a Class D Surface Area.

* * * * *

ASO AL E4 Troy, AL [Removed]

Paragraph 6005 Class E Airspace Areas Extending Upward From 700 Feet or More Above the Surface of the Earth.

* * * * *

ASO AL E5 Troy, AL [Amended]

Troy Municipal Airport at N. Kenneth Campbell Field, AL

(Lat. 31°51′36″ N., long. 86°00′50″ W.)

That airspace extending upward from 700 feet above the surface within a 7.6-mile radius of Troy Municipal Airport at N. Kenneth Campbell Field and within 2-miles each side of a 070° bearing from the airport to 11.5-miles northeast of the airport, and within 2-miles each side of a 253° bearing from the airport to 11.3-miles southwest of the airport.

Issued in College Park, Georgia, on September 7, 2016.
Joey L. Medders,
Acting Manager, Operations Support Group, Eastern Service Center, Air Traffic Organization.

[FR Doc. 2016-22735 Filed 9-21-16; 8:45 am]

BILLING CODE 4910-13-P